DEPARTMENT OF ENERGY

Federal Energy Regulatory Commission

Combined Notice of Filings

Take notice that the commission received the following accounting Request filings:

Filings Instituting Proceedings

Docket Numbers: AC25-58-000.

Applicants: TransCameron Pipeline, LLC.

Description: TransCameron Pipeline, LLC submits Request for use of Account 439 Adjustments to Retained Earnings.

Filed Date: 3/27/25.

Accession Number: 20250327-5116.

Comment Date: 5 p.m. ET 4/17/25.

Take notice that the commission received the following accounting Request filings:

Docket Numbers: PR25-44-000.

Applicants: Southwest Gas Corporation.

Description: § 284.123(g) Rate Filing: Amended SOC for Blanket Certificate to be effective 3/26/2025.

Filed Date: 3/26/25.

Accession Number: 20250326-5232.

Comment Date: 5 p.m. ET 4/16/25.

§ 284.123(g) Protest: 5 p.m. ET 5/23/25.

Docket Numbers: RP25-748-000.

Applicants: Cheniere Corpus Christi Pipeline, L.P.

Description: Semi-Annual Transportation Retainage Report of Cheniere Corpus Christi Pipeline, L.P.

Filed Date: 3/26/25.

Accession Number: 20250326-5213.

Comment Date: 5 p.m. ET 4/7/25.

Docket Numbers: RP25-749-000.

Applicants: Equitrans, L.P.

Description: § 4(d) Rate Filing: Formula Based Negot Rates—K1565 and Update Initial Retainage Rate—4/1/2025 to be effective 4/1/2025.

Filed Date: 3/27/25.

Accession Number: 20250327-5026.

Comment Date: 5 p.m. ET 4/8/25.

Docket Numbers: RP25-750-000.

Applicants: MarkWest Pioneer, L.L.C.

Description: § 4(d) Rate Filing: Tariff Filing to Delete Expired Non-Conforming Agreements to be effective 5/1/2025.

Filed Date: 3/27/25.

Accession Number: 20250327-5047.

Comment Date: 5 p.m. ET 4/8/25.

Docket Numbers: RP25-751-000.

Applicants: El Paso Natural Gas Company, L.L.C.

Description: § 4(d) Rate Filing: Negotiated Rate Agreement Update (Hartree Apr 25) to be effective 4/1/2025.

Filed Date: 3/27/25.

Accession Number: 20250327-5082.

Comment Date: 5 p.m. ET 4/8/25.

Docket Numbers: RP25-752-000.

Applicants: Bison Pipeline LLC.

Description: Compliance filing: Company Use Gas Annual Report 2025 to be effective N/A.

Filed Date: 3/27/25.

Accession Number: 20250327-5088.

Comment Date: 5 p.m. ET 4/8/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP25-410-001.

Applicants: Fayetteville Express Pipeline LLC.

Description: Compliance filing: NAESB Version 4.0 Compliance Filing—Corrected to be effective 8/1/2025.

Filed Date: 3/27/25.

Accession Number: 20250327-5048.

Comment Date: 5 p.m. ET 4/8/25.

Docket Numbers: RP25-490-001.

Applicants: ETC Tiger Pipeline, LLC.

Description: Compliance filing: NAESB 4.0 Compliance—Corrected to be effective 8/1/2025.

Filed Date: 3/27/25.

Accession Number: 20250327-5066.

Comment Date: 5 p.m. ET 4/8/25.

Any person desiring to protest in any of the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 27, 2025.
Carlos D. Clay,
Deputy Secretary.

[FR Doc. 2025-05616 Filed 4-1-25; 8:45 am]

BILLING CODE 6717-01-P